SMALL BUSINESS ADMINISTRATION

[Disaster Declaration #15374 and #15375; PUERTO RICO Disaster Number PR-00032]

Presidential Declaration Amendment of a Major Disaster for Public Assistance Only for the Commonwealth of Puerto Rico

AGENCY: U.S. Small Business Administration.

ACTION: Amendment 1.

SUMMARY: This is an amendment of the Presidential declaration of a major disaster for Public Assistance Only for the Commonwealth of Puerto Rico (FEMA-4339-DR), dated 11/02/2017.

Incident: Hurricane Maria.

Incident Period: 09/17/2017 through 11/15/2017.

DATES: Issued on 12/06/2017.

Physical Loan Application Deadline Date: 01/02/2018.

Economic Injury (EIDL) Loan Application Deadline Date: 08/02/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the Commonwealth of Puerto Rico, dated 11/02/2017, is hereby amended to establish the incident period for this disaster as beginning 09/17/2017 and continuing through 11/15/2017.

All other information in the original declaration remains unchanged.

(Catalog of Federal Domestic Assistance Number 59008)

James E. Rivera,
Associate Administrator for Disaster Assistance.

[FR Doc. 2017-26884 Filed 12-12-17; 8:45 am]

BILLING CODE 8025-01-P